DEPARTMENT OF ENERGY

Federal Energy Regulatory Commission

[Docket Nos. ER04-688-000, ER04-689-000, ER04-690-000, and ER04-693-000]

Pacific Gas and Electric Company; Notice of Telephone Conference Call

May 7, 2004.

The Federal Energy Regulatory Commission (FERC) staff will hold a telephone conference call in the above-referenced dockets on Thursday, May 13, 2004 at 12 Noon (9 a.m. Pacific Time).

The purpose of the telephone conference call is to establish a time and place for the initial technical conference to address the issues raised in these dockets, to establish a procedural schedule for additional technical conferences, and to prepare an agenda of the issues the parties want to discuss during the technical conferences.

Interested parties are invited to call telephone number 1-888-606-9535. Parties will need to provide the leader's name, Julia Lake, and the passcode, Lake, in order to access the call.

Parties are encouraged to submit any additional questions or issues they wish to have addressed during the telephone conference call. Questions about the telephone conference call should be directed to: Julia A. Lake, Office of the General Counsel—Markets, Tariffs and Rates, Federal Energy Regulatory Commission, 888 First Street, NE., Washington, DC 20426, 202-502-8370, julia.lake@ferc.gov.

Magalie R. Salas,
Secretary.

[FR Doc. E4-1158 Filed 5-12-04; 8:45 am]

BILLING CODE 6717-01-P